SECURITIES AND EXCHANGE COMMISSION

[File No. 500-1]

In the Matter of: VMT Scientific, Inc.; Order of Suspension of Trading

July 8, 2008.

It appears to the Securities and Exchange Commission that there is a lack of current and accurate information concerning the securities of VMT Scientific, Inc. (“VMT Scientific”) because of questions regarding the accuracy of assertions in press releases concerning, among other things: (1) The legal status of VMT Scientific; (2) VMT Scientific's business combinations; (3) VMT Scientific's current financial condition; and (4) VMT Scientific's assets.

The Commission is of the opinion that the public interest and the protection of investors require a suspension of trading in the securities of the above-listed company.

Therefore, it is ordered, pursuant to section 12(k) of the Securities Exchange Act of 1934, that trading in the above listed company is suspended for the period from 9:30 a.m. EDT, July 8, 2008 through 11:59 p.m. EDT, on July 21, 2008.

By the Commission.
Florence E. Harmon,
Acting Secretary.

[FR Doc. 08-1428 Filed 7-8-08; 11:32 am]

BILLING CODE 8010-01-P